DEPARTMENT OF THE INTERIOR

Bureau of Land Management

[CO-933-02-1320-EL; COC 66126]

Colorado; Notice of Invitation for Coal Exploration License Application, Bowie Resources, Limited

Pursuant to the Mineral Leasing Act of February 25, 1920, as amended, and to Title 43, Code of Federal Regulations, Subpart 3410, members of the public are hereby invited to participate with Bowie Resources, Limited in a program for the exploration of unleased coal deposits owned by the United States of America in the following described lands located in Delta County, Colorado:

T. 12 S., R. 91 W., 6th P.M.

Sec. 14, lots 7, 8, excluding HES 58, S½S½, NE¼SW¼, and NW¼SE¼;

Sec. 22, S½;

Sec. 23, lots 1-7, inclusive, excluding HES 133 & 161, W½, and NW¼SE¼;

Sec. 26, lots 1-5, inclusive, excluding HES 133 & 134, W½, and N½SE¼;

Sec. 27, all;

Sec. 28, S½;

Sec. 29, SE¼;

Sec. 32, lots 1,2, 7-10, inclusive, 15,16, and NE¼;

Sec. 33, lots 4,5,12,13, N½N½, and SW¼NW¼;

Sec. 34, N½N½.

The area described contains approximately 3,788.18 acres.

The application for coal exploration license is available for public inspection during normal business hours under serial number COC 66126 at the Bureau of Land Management (BLM), Colorado State Office, 2850 Youngfield Street, Lakewood, Colorado 80215, and at the Uncompahgre Field Office, 2505 So. Townsend Ave., Montrose, Colorado 81641.

Written Notice of Intent to Participate should be addressed to the attention of the following persons and must be received by them within 30 days after publication of the Notice of Invitation in the Federal Register: Karen Magallanes, Solid Minerals Staff, Resource Services, Colorado State Office, Bureau of Land Management, 2850 Youngfield Street, Lakewood, Colorado 80215; and Keith Seiber, President, Bowie Resources, Limited, P.O. Box 483, Paonia, Colorado 81428. Any party electing to participate in this program must share all costs on a pro rata basis with the applicant and with any other party or parties who elect to participate.

Dated: March 25, 2002.
Karen Magallanes,
Solid Minerals Staff, Resource Services.

[FR Doc. 02-11438 Filed 5-7-02; 8:45 am]

BILLING CODE 4310-JB-P